DEPARTMENT OF HOUSING AND URBAN DEVELOPMENT

[Docket No. FR-5264-D-01]

Redelegation of Authority for Office of Public and Indian Housing

AGENCY: Office of the Assistant Secretary for Public and Indian Housing, HUD.

ACTION: Notice to redelegate authority.

SUMMARY: Through this notice, the Assistant Secretary for Public and Indian Housing retains and redelegates certain authority to the Deputy Assistant Secretaries of the Office of Public and Indian Housing (PIH).

DATES: Effective Date: December 24, 2008.

FOR FURTHER INFORMATION CONTACT: Linda Bronsdon, AICP, Office of Public and Indian Housing, Department of Housing and Urban Development, 451 7th Street, SW., Room 4116, Washington, DC 20410-5000, telephone number 202-708-0713. (This is not a toll-free number.) Hearing-or speech-impaired individuals may access this number through TTY by calling the toll-free Federal Relay Service at 800-877-8339.

SUPPLEMENTARY INFORMATION: Section 7(d) of the Department of Housing and Urban Development (HUD) Act, as amended (42 U.S.C. 3535(d)), provides authority to the Secretary to delegate functions, powers and duties as the Secretary deems necessary. In the Consolidated Delegation of Authority for PIH, published on August 4, 2004, at 69 FR 47171, the Secretary of HUD delegated authority to the Assistant Secretary for PIH and authorized the Assistant Secretary to redelegate authority for the administration of certain PIH programs.

Section A. Authority Redelegated

The Assistant Secretary for PIH redelegates to Deputy Assistant Secretaries for PIH the power and authority of the Assistant Secretary for PIH to administer the following:

1. Programs under the jurisdiction of the Secretary that are carried out pursuant to the authority transferred from the Public Housing Administration under Section 5(a) of the Department of Housing and Urban Development Act (42 U.S.C. 3534) as amended;

2. Each program of the Department that is authorized pursuant to the United States Housing Act of 1937 (1937 Act) (42 U.S.C. 1437 et seq.) as amended, including but not limited to the Public Housing program, Section 8 programs (except the following Section 8 Project-Based programs: New Construction, Substantial Rehabilitation, Loan Management Set-Aside and Property Disposition) and predecessor programs that are no longer funded but have ongoing commitments;

3. PIH programs for which assistance is provided for or on behalf of public housing agencies (PHAs), public housing residents or other low-income households; and

4. PIH programs for which assistance is provided for or on behalf of Native Americans, Indian tribes, Alaska Native Villages, Native Hawaiians, tribal entities, tribally designated housing entities, or tribal housing resident organizations, as defined in Section G.

Section B. Authority Excepted

The redelegation of authority to the Deputy Assistant Secretaries does not include any power or authority under law specifically required of either the Secretary of HUD or the Assistant Secretary of PIH. Authority excepted includes:

1. Issue or waive regulations, including waivers pursuant to Section 982.161(c) of title 24 of the Code of Federal Regulations which permits HUD field offices to act on waivers of conflict of interests. Public Housing Field Office Directors are to not exercise this authority;

2. Issue notices to clarify regulations;

3. Issue Notices of Funding Availability (NOFAs), handbooks, notices and other HUD policy directives;

4. Waive any provision of an Annual Contributions Contract (ACC) including a determination of substantial breach or default; taking possession or title of property from a PHA; and declaring breach or default in response to any violation of statute or regulations;

5. Impose remedies for substantial noncompliance with the requirements of the Native American Housing Assistance and Self-Determination Act of 1996 (NAHASDA) (25 U.S.C. 4101 et seq.) and/or its implementing regulations; and

6. Declare a failure to comply with the regulations of the Community Development Block Grants for Indian Tribes and Alaska Native Villages.

Section C. Authority To Further Redelegate

In accordance with a written redelegation of authority, a Deputy Assistant Secretary may further redelegate specific authority to PIH Office Directors or to other ranking PIH program officials. Redelegated authority to PIH directors or other ranking PIH program officials does not supersede the authority of a Deputy Assistant Secretary as designee of the Assistant Secretary for PIH. Such further redelegations include, but are not limited to, the issuance of a Limited Denial of Participation.

Section D. Exceptions to Authority To Further Redelegate

Authority redelegated from a Deputy Assistant Secretary to a PIH Office Director or other ranking PIH program official is limited. Excepted power and authority, meaning the authority may not be further redelegated by, and remains with, a Deputy Assistant Secretary, includes the authority to:

1. Offer new legislative proposals to Congress;

2. Allocate or reallocate funding among field offices;

3. Approve remedies for noncompliance requiring notice and opportunity for administrative hearing;

4. Issue a Notice of Intent to Impose Remedies under the Indian Housing Block Grant Program, Native Hawaiian Housing Block Grant Program, or Community Development Block Grant Program for Indian Tribes and Alaska Native Villages;

5. Waive provisions or instructions of PIH directives relating to the obligation or payment of operating subsidies;

6. Solicit competitive proposals for the management of all or part of public housing administered by a PHA;

7. Approve special rent adjustments;

8. Conduct tax credit and/or subsidy layering reviews, unless specifically or otherwise noted;

9. Approve PHA requests for exception payment standards that exceed 120 percent of the Fair Market Rent (FMR); and

10. Approve grant extensions, unless specifically or otherwise noted.

Section E. Redelegation of Authority to the Office of Native American Programs

The Assistant Secretary for PIH hereby redelegates authority to the Deputy Assistant Secretary of the Office of Native American Programs to perform program administration and oversight responsibilities associated with the following:

1. Programs authorized pursuant to NAHASDA (25 U.S.C. 4101 et seq.);

2. The Community Development Block Grant Program for Indian Tribes and Alaska Native Villages authorized by Section 106 of the Housing and Community Development Act of 1974 (42 U.S.C. 5306);

3. The Indian Home Loan Guarantee Program authorized by Section 184 of the Housing and Community Development Act of 1992 (12 U.S.C. 1715z-13a);

4. The Native Hawaiian Loan Guarantee Program authorized by Section 184A of the Housing and Community Development Act of 1992 (12 U.S.C. 1715z-13b); and

5. Rural Housing and Economic Development grants awarded to Indian tribes and tribal entities by the Assistant Secretary for Community Planning and Development.

Section F. Authority Superseded

All previous redelegations of authority between the Assistant Secretary for PIH and PIH Deputy Assistant Secretaries are superseded by and replaced with this redelegation of authority.

Section G. Actions Ratified

The Assistant Secretary for PIH hereby ratifies all actions previously taken by Deputy Assistant Secretaries in PIH from August 4, 2004 through the effective date of this redelegation with respect to programs and matters listed in this redelegation of authority. All actions previously taken by the Deputy Assistant Secretary (DAS) for the Office of Public Housing Investments (OPHI), or by the Director of the Special Applications Center (SAC), with respect to the above redelegated authority are hereby ratified. The redelegation of authority from the DAS for OPHI to the Director of SAC, dated March 17, 2008, concerning actions taken from August 4, 2004 through the effective date of this redelegation, remains in effect.

Authority: Section 7(d) Department of Housing and Urban Development Act (42 U.S.C. 3535(d)).

Dated: December 24, 2008.
Paula O. Blunt,
General Deputy Assistant Secretary for Public and Indian Housing.

[FR Doc. E9-386 Filed 1-12-09; 8:45 am]

BILLING CODE 4210-67-P